DEPARTMENT OF THE INTERIOR

Bureau of Land Management

[LLMT924000 L12200000.PM0000]

Final Supplementary Rules for Camping on Undeveloped Public Lands in Montana, North Dakota, and South Dakota

AGENCY: Bureau of Land Management, Interior.

ACTION: Final supplementary rules.

SUMMARY: The Bureau of Land Management (BLM) is issuing final supplementary rules regarding time limits for camping and the storage of personal property on undeveloped public lands managed by the BLM in Montana, North Dakota, and South Dakota. These final supplementary rules consolidate existing rules for camping on undeveloped BLM-administered public lands throughout Montana, North Dakota, and South Dakota. These final supplementary rules will supersede prior published rules.

DATES: The rules are effective July 2, 2010.

ADDRESSES: You may submit suggestions or inquiries to Christina Miller, Outdoor Recreation Planner, BLM Montana State Office, 5001 Southgate Drive, Billings, MT 59101-4669.

FOR FURTHER INFORMATION CONTACT: Christina Miller, Outdoor Recreation Planner, BLM Montana State Office, 5001 Southgate Drive, Billings, Montana 59101-4669, (406) 896-5038.

SUPPLEMENTARY INFORMATION:

I. Background

II. Discussion of Comments

I. Background

The BLM proposed these final supplementary rules in order to promote consistency between the BLM-managed public lands in Montana, North Dakota, and South Dakota on issues of camping, occupancy, and the storage of property on undeveloped public lands. These rules are necessary to protect the area's natural resources, to provide for the public's health and safety, and provide needed guidance in the areas of camping, occupancy, and storage of personal property. These final supplementary rules would not apply to locations that contain structures or capital improvements (such as boat launch sites, picnic areas, and interpretive centers) and that are used primarily by the public for recreational purposes. Examples of such locations include developed campgrounds, designated recreation areas, and special recreation management areas. The BLM regulates the use and occupancy at such developed locations in accordance with 43 CFR 8365.2-3. In addition, site-specific rules for these locations remain in effect and are posted at each site.

These final supplementary rules supersede rules previously published at 72 FR 19958 (April 20, 2007). The rules in the Notice of Camping Limits on Public Lands in Montana, South Dakota and North Dakota required camps to be moved a minimum of 5 miles every 14 days. These final supplementary rules allow camping at a particular location for 16 days, either cumulatively or consecutively, during any 30-day interval. The placing or leaving of unattended motor vehicles, trailers, or other personal property for the purpose of reserving a camping site is considered camping for the purpose of these final supplementary rules. These changes will allow the public to remain in the general area in which they wish to recreate while still achieving the BLM's goal of protecting public lands and natural resources by prohibiting long-term camps in a single location.

II. Discussion of Comments

These rules were published as proposed final supplementary rules on August 13, 2009 in the Federal Register (74 FR 40839-40841). Comments were solicited in that publication and could be submitted by mail, electronic means, or by telephone.

No comments were received. Therefore, we are publishing the final supplementary rules as proposed, with the exception of editorial changes made for purposes of clarity.

III. Procedural Matters

Executive Order 12866, Regulatory Planning and Review

These final supplementary rules are not a significant regulatory action and are not subject to review by the Office of Management and Budget under Executive Order (E.O.) 12866. These final supplementary rules will not have an effect of $100 million or more on the economy. These final supplementary rules will not adversely affect, in a material way, the economy, productivity, competition, jobs, the environment, public health or safety, or state, local, or tribal governments or communities. These final supplementary rules will not create a serious inconsistency or otherwise interfere with an action taken or planned by another agency. These final supplementary rules do not alter the budgetary effects of entitlements, grants, user fees, or loan programs or the right or obligations of their recipients nor do these final supplementary rules raise novel legal or policy issues. They establish limits for public recreational use of undeveloped public lands in Montana, North Dakota, and South Dakota to protect public lands and natural resources.

National Environmental Policy Act

The BLM prepared an environmental impact statement (EIS) as part of the development of the resource management plan (RMP) for each district office. During that National Environmental Policy Act (NEPA) process, the proposed decisions were fully analyzed, including the substance of these final supplementary rules. The pertinent analysis can be found in Chapter 4, Environmental Consequences, of the RMP for each district office. These final supplementary rules provide for enforcement of plan decisions.

Regulatory Flexibility Act

Congress enacted the Regulatory Flexibility Act (RFA) of 1980, as amended, 5 U.S.C. 601-612, to ensure that government regulations do not unnecessarily or disproportionately burden small entities. The RFA requires a regulatory flexibility analysis if a rule would have a significant economic impact, either detrimental or beneficial, on a substantial number of small entities. These final supplementary rules do not pertain specifically to commercial or governmental entities of any size, but to public recreational use of specific public lands. Therefore, the BLM has determined under the RFA that these final supplementary rules would not have a significant economic impact on a substantial number of small entities.

Small Business Regulatory Enforcement Fairness Act

These final supplementary rules do not constitute a “major rule” as defined at 5 U.S.C. 804(2). Again, these final supplementary rules merely establish limits for recreational use of certain public lands. These final supplementary rules have no effect on business—commercial or industrial—use of the public lands.

Unfunded Mandates Reform Act

These final supplementary rules do not impose an unfunded mandate on state, local, or tribal governments, or the private sector of more than $100 million per year nor do these final supplementary rules have a significant or unique effect on state, local, or tribal governments, or the private sector. These final supplementary rules do not require anything of state, local, or tribal governments. Therefore, the BLM is not required to prepare a statement containing the information required by the Unfunded Mandates Reform Act (2 U.S.C. 1531 et seq.).

Executive Order 12630, Governmental Actions and Interference With Constitutionally Protected Property Rights (Takings)

These final supplementary rules do not represent a government action capable of interfering with constitutionally protected property rights. These final supplementary rules do not address property rights in any form and do not cause the impairment of anybody's property rights. Therefore, the Department of the Interior has determined that these final supplementary rules would not cause a taking of private property or require further discussion of takings implications under this Executive Order.

Executive Order 13132, Federalism

These final supplementary rules do not have a substantial direct effect on the states, on the relationship between the national government and the states, or on the distribution of power and responsibilities among the various levels of government. These final supplementary rules will have little or no effect on state or local government. Therefore, in accordance with E.O. 13132, the BLM has determined that these final supplementary rules do not have sufficient federalism implications to warrant preparation of a Federalism Assessment.

Executive Order 12988, Civil Justice Reform

Under E.O. 12988, the BLM has determined that these final supplementary rules would not unduly burden the judicial system and that they meet the requirements of Sections 3(a) and 3(b)(2) of the Executive Order.

Paperwork Reduction Act

These final supplementary rules do not directly provide for any information collection that the Office of Management and Budget must approve under the Paperwork Reduction Act (44 U.S.C. 3501 et seq.). Any information collection that may result from Federal criminal investigations or prosecutions conducted in enforcing these final supplementary rules is exempt from the provisions of the Paperwork Reduction Act of 1995, 44 U.S.C. 3518(c)(1).

Executive Order 13175, Consultation and Coordination With Indian Tribal Governments

In accordance with E.O. 13175, the BLM has found that these final supplementary rules do not include policies that have tribal implications. These final supplementary rules provide for enforcement of decisions adopted in the record of decision and thoroughly analyzed in the EIS prepared for the RMP of each district office. During preparation of the EIS, government-to-government consultation was conducted with the tribal governments with interests in the affected area. None of these tribal governments expressed concerns regarding the decisions these final supplementary rules are designed to enforce. Therefore, in accordance with E.O. 13175, the BLM has found that these final supplementary rules do not include polices that have tribal implications.

Author

The principal author of these final supplementary rules is Christina Miller, Outdoor Recreation Planner, BLM, Montana State Office. For the reasons stated in the Preamble, and under the authority for supplementary rules found in 43 U.S.C. 1740, 16 U.S.C. 670h(c)(5), 43 U.S.C. 315a, and 43 CFR 8365.1-6, the Montana/Dakotas State Director, BLM, proposes the following final supplementary rules for camping on public lands within the States of Montana, North Dakota, and South Dakota:

Final Supplementary Rules for Undeveloped BLM-Administered Lands in the States of Montana, North Dakota, and South Dakota

Definitions

Camping: The erecting of a tent or shelter of natural or synthetic material, preparing a sleeping bag or other bedding material for use, parking of a motor vehicle, motor home, or trailer, or mooring of a vessel for the apparent purpose of overnight occupancy. The placing or leaving of unattended motor vehicles, trailers, or other personal property for the purpose of reserving a camping site is considered camping for the purpose of these final supplementary rules.

Personal Property: Ownership of any tangible article. Examples of personal property include vehicles, furniture, boats, collectibles, etc.

Refuse: Items or material discarded or rejected as useless or worthless, trash or rubbish.

You must follow these rules:

These final supplementary rules apply, except as specifically exempted, to all camping on undeveloped public lands managed by the Montana State Office of the BLM within the states of Montana, North Dakota, and South Dakota. These final supplementary rules are in effect on a year-round basis and will remain in effect until modified by the BLM.

1. You must not camp longer than 16 consecutive days at any one location;

2. No person or group may camp within a single location on public lands more than 16 days within any period of 30 consecutive days. The 16-day limit may be reached either by compiling individual visits during a 30-day interval or by occupying a location continuously for 16 days during a 30-day interval. A 16-day interval begins when a person initially camps or leaves vehicles or property at a site on public lands;

3. After 16 days of camping in a single location, you must not camp at that location until at least 30 days have passed, and any camp relocation within that 30-day period shall not be within a one-half mile radius from the original site. Under special circumstances and upon request, the BLM may issue a written permit for extension of the 16-day limit;

4. You must not leave any personal property or refuse after vacating the campsite. This includes any property left for the purposes of use by another camper or occupant;

5. The time such property is left unattended at a site will be counted toward the 16-day camping limit. (Unattended property is still subject to the time limits found in 43 CFR 8365.1-2(b)); and

6. The following persons are exempt from these final supplementary rules: any Federal, state, or local officer or employee in the scope of their duties; members of any organized rescue or firefighting force in performance of an official duty; and any person whose activities are authorized in writing by the BLM.

Penalties

Penalties under these rules may depend on the location where a violation occurs. The primary statutory authority for proposing these final supplementary rules is the Federal Land Policy and Management Act (FLPMA). Section 310 of FLPMA (43 U.S.C. 1740) authorizes the BLM to issue rules and regulations to carry out the purposes of FLPMA and other laws applicable to the public lands. Under Section 303(a) of FLPMA, 43 U.S.C. 1733(a) and 43 CFR 8360.0-7, any person who violates any of these final supplementary rules on any public lands may be tried before a United States Magistrate and fined no more than $1,000 or imprisoned for no more than 12 months, or both. Also, such violations may be subject to the enhanced fines provided for by 18 U.S.C. 3571. Under the Taylor Grazing Act, any person who violates any of these final supplementary rules on public lands within grazing districts (see 43 U.S.C. 315a), or on public lands subject to a grazing lease (see 43 U.S.C. 315m), may be tried before a United States Magistrate and fined no more than $500. Such violations may also be subject to the enhanced fines provided for by 18 U.S.C. 3571.

Any person who violates any of these final supplementary rules on public lands managed in accordance with the Sikes Act may be tried before a United States Magistrate and fined no more than $500 or imprisoned for no more than six months, or both. Such violations may also be subject to the enhanced fines provided for by 18 U.S.C. 3571.

In accordance with 43 CFR 8365.1-7, state or local officials may also impose penalties for violations of Montana, North Dakota, or South Dakota law.

Gene R. Terland,
State Director, Montana State Office.

[FR Doc. 2010-13227 Filed 6-1-10; 8:45 am]

BILLING CODE 4310-DN-P